DEPARTMENT OF AGRICULTURE

Grain Inspection, Packers and Stockyards Administration

7 CFR Part 800

Suspension of Supervision Fee Assessment Under the United States Grain Standards Act

AGENCY: Grain Inspection Packers and Stockyards Administration, USDA.

ACTION: Notification of suspension of supervision fee assessment.

SUMMARY: The Department of Agriculture (USDA), Grain Inspection, Packers and Stockyards Administration (GIPSA) is suspending the assessment of fees for supervision of official inspection and weighing services performed by delegated States and/or designated agencies under the United States Grain Standards Act (USGSA).

DATES: This document is effective beginning July 1, 2016, and remains in effect through June 30, 2017.

FOR FURTHER INFORMATION CONTACT: Barry Gomoll by phone at 202-720-8286 or by email at Barry.L.Gomoll@usda.gov. Persons with disabilities who require alternative means for communication (Braille, large print, audio tape, etc.) should contact the USDA Target Center at (202) 720-2600 (voice and TDD).

SUPPLEMENTARY INFORMATION: The Agriculture Reauthorizations Act of 2015, Public Law 114-54, amended the USGSA (7 U.S.C. 71-87k) to require GIPSA to adjust fees for the supervision of official grain inspection and weighing in order to maintain an operating reserve of not less than 3 and not more than 6 months (7 U.S.C. 79(j)(4)).

GIPSA's reorganization efforts over the past 10 years have resulted in the centralization of supervision of delegated states and designated agencies. Due to this and other GIPSA cost reduction measures, the operating reserve of GIPSA's account for supervision of official inspection and weighing currently exceeds 6 months by a significant margin. Accordingly, GIPSA is issuing this document to announce the suspension of the fee for supervision of official inspection and weighing services of domestic grain and land carriers to Canada and Mexico performed by delegated States and/or designated agencies. According to the regulations under the USGSA, GIPSA may suspend any provision of the regulations in emergencies or other circumstances which would not impair the objectives of the USGSA (7 CFR 800.2). GIPSA has determined that suspending supervision fees will not impair the objectives of the USGSA because the operating reserve for supervision services is sufficient to maintain the service without additional funds.

GIPSA will no longer assess the fee of $0.011 per metric ton of domestic shipments officially inspected and/or weighed, including land carrier shipments to Canada and Mexico, performed by delegated States and/or designated agencies on or after July 1, 2016 (7 CFR 800.71 Schedule B). These fees will remain suspended for one year, at which time GIPSA will reassess the operating reserve for supervision of official agency inspection and weighing.

Official inspection agencies may no longer pass the suspended supervision fee on to their customers. Agencies which list GIPSA supervision fees as a line item on their fee schedules must eliminate the fee. Agencies which include supervision fees as a part of fees that they charge to their customers must either reduce fees by the amount of the suspended fee or provide justification and detailed cost information for retaining current fees. All agencies must submit revised fee schedules for GIPSA approval (7 CFR 800.70).

Larry Mitchell,
Administrator, Grain Inspection, Packers and Stockyards Administration.

[FR Doc. 2016-15152 Filed 6-27-16; 8:45 am]

BILLING CODE 3410-KD-P